JUDICIAL CONFERENCE OF THE UNITED STATES

Meeting of the Judicial Conference Committee on Rules of Practice and Procedure

AGENCY: Advisory Committee on Rules of Bankruptcy Procedure, Judicial Conference of the United States.

ACTION: Notice of Open Meeting.

SUMMARY: The Advisory Committee on Rules of Bankruptcy Procedure will hold a two-day meeting. The meeting will be open to public observation but not participation.

DATES: April 22-23, 2014.

Time: 8:00 a.m. to 5:00 p.m.

ADDRESSES: University of Texas School of Law, 727 East Dean Keeton Street, Austin, Texas 78705.

FOR FURTHER INFORMATION CONTACT: Jonathan C. Rose, Secretary and Chief Rules Officer, Rules Committee Support Office, Administrative Office of the United States Courts, Washington, DC 20544, telephone (202) 502-1820.

Dated: March 11, 2014.
Jonathan C. Rose,
Secretary and Chief Rules Officer.

[FR Doc. 2014-05715 Filed 3-13-14; 8:45 am]

BILLING CODE 2210-55-P